DEPARTMENT OF AGRICULTURE

Agricultural Marketing Service

7 CFR Part 928

[Docket No. FV00-928-1 PR]

Papayas Grown in Hawaii; Reopening of Comment Period on Removal of Suspension Regarding Grade, Inspection, and Related Reporting Requirements and Notice of Request for Revision of a Currently Approved Information Collection

AGENCY: Agricultural Marketing Service, USDA.

ACTION: Reopening of the comment period.

SUMMARY: Notice is hereby given that the comment period on the proposed removal of the suspension of grade, inspection, and related reporting requirements for Hawaiian papayas is reopened.

DATES: Comments must be received by June 20, 2000.

ADDRESSES: Interested persons are invited to submit written comments concerning this proposal. Comments must be sent to the Docket Clerk, Fruit and Vegetable Programs, AMS, USDA, room 2525-S, PO Box 96456, Washington, DC 20090-6456; Fax: (202) 720-5698; or E-mail: moab.docketclerk@usda.gov. All comments should reference the docket number and the date and page number of this issue of the Federal Register and will be made available for public inspection in the Office of the Docket Clerk during regular business hours.

FOR FURTHER INFORMATION CONTACT: George Kelhart, Technical Advisor, Marketing Order Administration Branch, Fruit and Vegetable Programs, AMS, USDA, room 2525-S, PO Box 96456, Washington, DC 20090-6456; telephone: (202) 720-2491, Fax: (202) 720-5698.

Small businesses may request information on compliance with this regulation by contacting Jay Guerber, Marketing Order Administration Branch, Fruit and Vegetable Programs, AMS, USDA, room 2525-S, P.O. Box 96456, Washington, DC 20090-6456; telephone (202) 720-2491, Fax: (202) 720-5698, or E-mail Jay.Guerber@usda.gov.

SUPPLEMENTARY INFORMATION: A proposed rule was issued on February 14, 2000, and published in the Federal Register (65 FR 8313; February 18, 2000). The proposed rule invited comments on removing the suspension of grade, inspection, inspection waiver procedure, and related exempt shipment reporting requirements under the marketing order regulating papayas grown in Hawaii. The proposal specified that papayas shipped to any destination had to be at least Hawaii No. 1, except that the weight requirements specified in this grade shall not apply. These requirements were the same as previously applied except that the 5 percent tolerance for immature papayas was proposed to be removed. The comment period ended April 18, 2000.

One comment signed by eight persons was received. In evaluating that comment, the Department further reviewed the Papaya Administrative Committee's (Committee) recommendation to remove the 5 percent tolerance for immature fruit under Hawaii No. 1. The rationale provided by the Committee for removing that tolerance was to improve the quality of papayas shipped into the fresh market. A further review of the requirements under Hawaii No. 1, however, revealed that the removal of that tolerance could have the effect of permitting more immature fruit in shipments of Hawaii papayas than was permitted before the requirements were suspended in 1994. For instance, under the inspection shipping point plan in Table IIA of the Standards for Hawaii Grown Papaya, the removal of the 5 percent tolerance could permit a lot of papayas to include a maximum of 7 percent immature papayas. This would not be an improvement in quality as contemplated by the Committee.

Before proceeding further on this recommendation, the Department needs more information to clarify the basis of the recommendation to remove the 5 percent tolerance. Reopening the comment period to June 20, 2000, would allow the Committee and other interested persons more time to review the proposed rule and submit information to clarify the matter.

This delay should not substantially add to the time required to complete this rulemaking action. Accordingly, the period in which to file written comments is reopened until June 20, 2000. This notice is issued pursuant to the Agricultural Marketing Agreement Act of 1937.

Authority: 7 U.S.C. 601-674.

Dated: May 30, 2000.
Robert C. Keeney,
Deputy Administrator, Fruit and Vegetable Programs.

[FR Doc. 00-13979 Filed 6-2-00; 8:45 am]

BILLING CODE 3410-02-U